DEPARTMENT OF ENERGY

Federal Energy Regulatory Commission

[Project No. 1005-000]

City of Boulder, CO; Notice of Authorization for Continued Project Operation

September 2, 2009.

On March 9, 2009, the City of Boulder, licensee for the Boulder Canyon Hydroelectric Project, filed an Application for a Small Conduit Exemption in lieu of an application for a new license pursuant to the Federal Power Act (FPA) and the Commission's regulations thereunder. The Boulder Canyon Hydroelectric Project is located on water supply facilities of the City of Boulder, in Boulder and Nederland Counties, Colorado.

The license for Project No. 1005 was issued for a period ending August 31, 2009. Section 15(a)(1) of the FPA, 16 U.S.C. 808(a)(1), requires the Commission, at the expiration of a license term, to issue from year-to-year an annual license to the then licensee under the terms and conditions of the prior license until a new license is issued, or the project is otherwise disposed of as provided in section 15 or any other applicable section of the FPA.

The Boulder Canyon Hydroelectric Project is subject to section 15 of the FPA. Notice is hereby given that an annual license for Project No. 1005 is issued to the City of Boulder for a period effective September 1, 2009 through August 31, 2010, or until the issuance of a Small Conduit Exemption for the project or other disposition under the FPA, whichever comes first. If issuance of a Small Conduit Exemption (or other disposition) does not take place on or before August 31, 2010, notice is hereby given that, pursuant to 18 CFR 16.18(c), an annual license under section 15(a)(1) of the FPA is renewed automatically without further order or notice by the Commission, unless the Commission orders otherwise.

Kimberly D. Bose,
Secretary.

[FR Doc. E9-21733 Filed 9-8-09; 8:45 am]

BILLING CODE 6717-01-P